DEPARTMENT OF TRANSPORTATION

Federal Aviation Administration

14 CFR Part 39

[Docket No. FAA-2012-0676; Directorate Identifier 2011-NM-182-AD; Amendment 39-17266; AD 2012-23-10]

RIN 2120-AA64

Airworthiness Directives; Airbus Airplanes

AGENCY: Federal Aviation Administration (FAA), Department of Transportation (DOT).

ACTION: Final rule.

SUMMARY: We are adopting a new airworthiness directive (AD) for all Airbus Model A318, A319, A320, and A321 series airplanes. This AD was prompted by reports of the escape slide of the raft inflation system not deploying when activated due to the rotation of the cable guide in a direction which resulted in jamming of the inflation control cable. This AD requires modifying the affected slide rafts. We are issuing this AD to prevent non-deployment of the inflation system of the escape slide raft, which could result in delayed evacuation from the airplane during an emergency, and consequent injury to the passengers.

DATES: This AD becomes effective December 31, 2012.

The Director of the Federal Register approved the incorporation by reference of certain publications listed in this AD as of December 31, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Discussion

We issued a notice of proposed rulemaking (NPRM) to amend 14 CFR part 39 to include an AD that would apply to the specified products. That NPRM was published in the Federal Register on July 2, 2012 (77 FR 39186). That NPRM proposed to correct an unsafe condition for the specified products. The Mandatory Continuing Airworthiness Information (MCAI) states:

Two occurrences on Airbus A320 aeroplanes have been reported where the escape slide raft inflation system did not deploy when activated, due to the rotation of the cable guide in a direction which resulted in jamming of the inflation control cable. Additionally, there has been one reported case where the system did not deploy properly due to a cracked inflation hose fitting.

Investigation conducted by the slide raft manufacturer showed that the hose fitting could be subject to a bending moment if improperly packed. Subsequently, the hose fitting could separate from the reservoir and the inflation of the slide raft may be impaired.

This condition, if not corrected, could delay the evacuation from the aeroplane in case of emergency, possibly resulting in injury to the occupants.

For the reasons described above, this [European Aviation Safety Agency (EASA)] AD requires modification of the affected slide rafts or [optional] replacement thereof with modified units.

* * * * *

The modification includes installing a cable guide adaptor, an anti-rotation bracket, and a new hose assembly. You may obtain further information by examining the MCAI in the AD.

Comments

We gave the public the opportunity to participate in developing this AD. We considered the comments received. United Airlines (UAL) supports the compliance time of 36 months after the effective date of this AD.

Request To Clarify Concurrent Requirements

UAL requested we highlight that Air Cruisers Service Bulletin S.B.A320 004-25-85 has a concurrent requirement to accomplish Air Cruisers Service Bulletin S.B.A320 004-25-56. UAL stated that it would like to receive a confirmation that Air Cruisers Service Bulletin S.B.A320 004-25-56 must also be accomplished to comply with the proposed AD (77 FR 39186, July 2, 2012).

We agree with UAL's comment. For the optional replacement in paragraph (h) of this final rule, we have clarified that the concurrent requirement specified in paragraph 1.B. of Air Cruisers Service Bulletin S.B. A320 004-25-85, Revision 2, dated January 3, 2012, is necessary. We have revised paragraphs (h), (j)(1), and (j)(2) in this final rule accordingly.

Request To Remove the Parts Installation Limitation in Paragraph (j)(1) of the Proposed AD (77 FR 39186, July 2, 2012)

UAL requested that the parts installation limitation in paragraph (j)(1) of the proposed AD (77 FR 39186, July 2, 2012) be removed. UAL stated that the proposed requirement will remove the operator's flexibility to replace a post-AD part number with a pre-AD part number prior to the AD limit. UAL stated that, after the proposed AD effective date, it agrees that any new slide-rafts released by the home shop should have the AD requirements incorporated to prevent unit on-wing installation beyond the AD limit, but not on the ones currently installed on-wing. UAL stated that it believes the intent of the proposed AD is to eliminate pre-AD part numbers after 36 months of the effective date.

We disagree with UAL's request to remove paragraph (j)(1) of this final rule. Paragraph (j)(1) of this final rule only applies to those airplanes that have accomplished the modification or replacement. The intent of this AD is to prevent installation of the unsafe escape slide rafts after accomplishing the required modification or replacement. Operators have a compliance time of within 36 months after the effective date of this AD to do the modification required by paragraph (g) of this AD, or the alternative action specified in paragraph (h) of this AD. We have not changed the AD in this regard.

Request To Incorporate New Service Information

Airbus requested that we revise the proposed AD (77 FR 39186, July 2, 2012) to incorporate Air Cruisers Service Bulletin S.B.A320 004-25-85, Revision 1, dated September 30, 2011, and Revision 2, dated January 3, 2012; and to refer to EASA AD 2011-0160R1, dated March 15, 2012; into the proposed AD.

We agree with Airbus' request to reference the latest service information. We have revised this AD to reference Air Cruisers Service Bulletin S.B.A320 004-25-85, Revision 2, dated January 3, 2012, for the actions specified in paragraphs (h) and (j) of this AD. Air Cruisers Service Bulletin S.B.A320 004-25-85, Revision 2, dated January 3, 2012, clarifies certain actions and figures. We have also added new paragraph (k) of this AD to provide credit for actions done using Air Cruisers Service Bulletin S.B.A320 004-25-85, dated November 30, 2010; or Air Cruisers Service Bulletin S.B.A320 004-25-85, Revision 1, dated September 30, 2011; before the effective date of this AD. In addition, we have revised paragraph (m) of this AD to reference EASA AD 2011-0160R1, dated March 15, 2012, which clarifies the parts installation limitations specified in that EASA AD.

Conclusion

We reviewed the available data, including the comments received, and determined that air safety and the public interest require adopting the AD with the changes described previously—except for minor editorial changes. We have determined that these changes:

• Are consistent with the intent that was proposed in NPRM (77 FR 39186, July 2, 2012) for correcting the unsafe condition; and

• Do not add any additional burden upon the public than was already proposed in the NPRM (77 FR 39186, July 2, 2012).

Costs of Compliance

We estimate that this AD will affect 745 products of U.S. registry. We also estimate that it will take about 19 work-hours per product to comply with the basic requirements of this AD. The average labor rate is $85 per work-hour. Required parts will cost about $341 per product. Where the service information lists required parts costs that are covered under warranty, we have assumed that there will be no charge for these parts. As we do not control warranty coverage for affected parties, some parties may incur costs higher than estimated here. Based on these figures, we estimate the cost of this AD to the U.S. operators to be $1,457,220, or $1,956 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 39186, July 2, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-23-10 Airbus: Amendment 39-17266. Docket No. FAA-2012-0676; Directorate Identifier 2011-NM-182-AD.

(a) Effective Date

This airworthiness directive (AD) becomes effective December 31, 2012.

(b) Affected ADs

None.

(c) Applicability

This AD applies to all Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category; all manufacturer serial numbers.

(d) Subject

Air Transport Association (ATA) of America Code 25: Equipment/Furnishings.

(e) Reason

This AD was prompted by reports of the escape slide of the raft inflation system not deploying when activated due to the rotation of the cable guide in a direction which resulted in jamming of the inflation control table. We are issuing this AD to prevent non-deployment of the inflation system of the escape slide raft, which could result in delayed evacuation from the airplane during an emergency, and consequent injury to the passengers.

(f) Compliance

You are responsible for having the actions required by this AD performed within the compliance times specified, unless the actions have already been done.

(g) Modification

Except as provided by paragraph (i) of this AD, within 36 months after the effective date of this AD: Modify the escape slide rafts that have a part number (P/N) specified in table 1 to paragraph (g) of this AD, in accordance with the Accomplishment Instructions of Airbus Service Bulletin A320-25-1723, dated December 17, 2010 (for Model A319, A320, and A321 series airplanes); or Airbus Service Bulletin A320-25-1724, dated December 17, 2010 (for Model A318 series airplanes).

Table 1 to Paragraph (g) of This AD—Escape Slide Raft
Air Cruisers and Aerazur escape slide rafts part number if fitted with a reservoir and valve assembly P/N D18309-105 or P/N D18309-205
D30664-105
D30664-107
D30664-109
D30664-305
D30664-307
D30664-309
D30664-311
D30665-105
D30665-107
D30665-109
D30665-305
D30665-307
D30665-309
D30665-311

(h) Replacement in Accordance With Air Cruisers Service Bulletin

Replacement of all affected escape slide rafts on any affected airplane with slide rafts that have been modified in accordance with the Accomplishment Instructions of Air Cruisers Service Bulletin S.B.A320 004-25-85, Revision 2, dated January 3, 2012, is acceptable for compliance with the requirements of paragraph (g) of this AD, provided that prior to or concurrently with accomplishing the modification, the installation of the cable guide assembly is done in accordance with the Accomplishment Instructions of Air Cruisers Service Bulletin S.B.A320 004-25-56, dated November 12, 1999.

(i) Airplanes Not Affected by Paragraph (g) of This AD

Airplanes on which Airbus modification 151459 or modification 151502 has been embodied in production, and on which no escape slide raft replacements have been made since first flight, are not affected by the requirement specified in paragraph (g) of this AD.

(j) Parts Installation Limitations

(1) For airplanes other than those identified in paragraph (i) of this AD: After accomplishment of the modification required by paragraph (g) of this AD or after accomplishment of the alternative modification specified in paragraph (h) of this AD, no person may install, on any airplane, an escape slide raft specified in table 1 to paragraph (g) of this AD, unless it has been modified in accordance with the Accomplishment Instructions of Airbus Service Bulletin A320-25-1723, dated December 17, 2010 (for Model A319, A320, and A321 series airplanes); Airbus Service Bulletin A320-25-1724, dated December 17, 2010 (for Model A318 series airplanes); or Air Cruisers Service Bulletin S.B.A320 004-25-85, Revision 2, dated January 3, 2012 (for Model A318, A319, A320, and A321 series airplanes), including the installation of the cable guide assembly in accordance with the Accomplishment Instructions of Air Cruisers Service Bulletin S.B.A320 004-25-56, dated, November 12, 1999.

(2) For airplanes identified in paragraph (i) of this AD: As the effective date of this AD, no person may install, on any airplane, an escape slide raft specified in table 1 to paragraph (g) of this AD, unless it has been modified in accordance with the Accomplishment Instructions of Airbus Service Bulletin A320-25-1723, dated December 17, 2010 (for Model A319, A320, and A321 series airplanes); Airbus Service Bulletin A320-25-1724, dated December 17, 2010 (for Model A318 series airplanes); or Air Cruisers Service Bulletin S.B.A320 004-25-85, Revision 2, dated January 3, 2012 (for Model A318, A319, A320, and A321 series airplanes), including the installation of the cable guide assembly in accordance with the Accomplishment Instructions of Air Cruisers Service Bulletin S.B.A320 004-25-56, dated, November 12, 1999.

(k) Credit for Previous Actions

This paragraph provides credit for the actions required by paragraphs (h) and (j) of this AD, if those actions were performed before the effective date of this AD using Air Cruisers Service Bulletin S.B.A320 004-25-85, dated November 30, 2010; or Air Cruisers Service Bulletin S.B.A320 004-25-85, Revision 1, dated September 30, 2011; which are not incorporated by reference in this AD.

(l) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

(1) Refer to MCAI European Aviation Safety Agency Airworthiness Directive 2011-0160R1, dated March 15, 2012, and the service information specified in paragraphs (m)(1)(i) through (m)(1)(iv) of this AD, for related information.

(i) Airbus Service Bulletin A320-25-1723, dated December 17, 2010.

(ii) Airbus Service Bulletin A320-25-1724, dated December 17, 2010.

(iii) Air Cruisers Service Bulletin S.B.A320 004-25-85, Revision 2, dated January 3, 2012.

(iv) Air Cruisers Service Bulletin S.B.A320 004-25-56, dated, November 12, 1999.

(2) For Air Cruisers service information identified in this AD, contact Zodiac Services Americas, Cage Code 567V9, 4900 St. Joe Boulevard, Building 200, Suite 400, College Park, Georgia 30337; telephone 678-228-8153; fax 404-599-0041; email techpubs@zodiac.com; Internet http://www.zodiacaerospace.com.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Service Bulletin A320-25-1723, dated December 17, 2010.

(ii) Airbus Service Bulletin A320-25-1724, dated December 17, 2010.

(iii) Air Cruisers Service Bulletin S.B.A320 004-25-85, Revision 2, dated January 3, 2012.

(iv) Air Cruisers Service Bulletin S.B.A320 004-25-56, dated, November 12, 1999.

(3) For Airbus service information identified in this AD, contact Airbus, Airworthiness Office—EAS, 1 Rond Point Maurice Bellonte, 31707 Blagnac Cedex, France; telephone +33 5 61 93 36 96; fax +33 5 61 93 44 51; email account.airworth-eas@airbus.com; Internet http://www.airbus.com. For Air Cruisers service information identified in this AD, contact Zodiac Services Americas, Cage Code 567V9, 4900 St. Joe Boulevard, Building 200, Suite 400, College Park, Georgia 30337; telephone 678-228-8153; fax 404-599-0041; email techpubs@zodiac.com; Internet http://www.zodiacaerospace.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on November 13, 2012.
John P. Piccola,
Acting Manager, Transport Airplane Directorate, Aircraft Certification Service.

[FR Doc. 2012-28181 Filed 11-23-12; 8:45 am]

BILLING CODE 4910-13-P